DEPARTMENT OF LABOR

Mine Safety and Health Administration

Petitions for Modification

The following parties have filed petitions to modify the application of mandatory safety standards under section 101(c) of the Federal Mine Safety and Health Act of 1977.

1. Williams Brothers Coal Company, Inc.

[Docket No. M-2000-012-C]

Williams Brothers Coal Company, Inc., 238 Cantrell Road, Mouthcard, Kentucky 41548 has filed a petition to modify the application of 30 CFR 75.1100-2(b) (quantity and location of firefighting equipment) to its No. 3 Mine (I.D. No. 15-16666) located in Pike County, Kentucky. The petitioner proposes to leave the fire hose outlets in the entry adjacent to the conveyor belt entry. The petitioner states that in the event of a belt fire, the water line would be protected and the fire fighters would have safe access to the outlets. The petitioner asserts that the proposed alternative method would provide at least the same measure of protection as the mandatory standard.

2. Europa Coal Company, Inc.

[Docket No. M-2000-013-C]

Europa Coal Company, Inc., 430 Harper Park Drive, Beckley, West Virginia 25801 has filed a petition to modify the application of 30 CFR 75.1002 (location of trolley wires, trolley feeder wires, high-voltage cables and transformers) to its Europa Mine (I.D. No. 46-08798) located in Boone County, West Virginia. The petitioner proposes to use a 2,400 volt Joy 14CM continuous miner instead of a 1,000 volt continuous miner inby the last open crosscut and within 150 feet from pillar workings using the specific terms and conditions listed in this petition for modification. The petitioner asserts that the proposed alternative method would provide at least the same measure of protection as the mandatory standard.

3. Blue Mountain Energy, Inc.

[Docket No. M-2000-014-C]

Blue Mountain Energy, Inc., 3607 County Rd. #65, Rangely, Colorado 81648 has filed a petition to modify the application of 30 CFR 75.1908(a)(5) (nonpermissible diesel-powered equipment; categories) to its Deserado Mine (I.D. No. 05-03505) located in Rio Blanco County, Colorado. The petitioner requests a modification of the standard to permit the use of diesel-powered pickup trucks to tow diesel fuel transportation units. The petitioner proposes to only use diesel-powered pickup trucks to tow diesel fuel transportation units if the rated capacity of the truck exceeds the load by a fraction of 50 percent, and equip diesel fuel transportation units with automatic fire suppression devices when towed by the pickup trucks. The petitioner asserts that the proposed alternative method would provide at least the same measure of protection as the mandatory standard.

4. RAG Cumberland Resources LP

[Docket No. M-2000-015-C]

RAG Cumberland Resources LP, One Oxford Centre, 301 Grant Street, 20th Floor, Pittsburgh, Pennsylvania 15219-1410 has filed a petition to modify the application of 30 CFR 75.503 (permissible electric face equipment; maintenance) to its (I.D. No. 36-05018) located in Greene County, Pennsylvania. The petitioner requests a modification of the standard to permit the use of a 1,000 foot trailing cable on full-face continuous miners and other face equipment during development mining using the specific terms and conditions listed in this petition for modification. The petitioner asserts that the proposed alternative method would provide at least the same measure of protection as the mandatory standard.

5. Elk Run Coal Company

[Docket No. M-2000-016-C]

Elk Run Coal Company, Box 497, Sylvester, West Virginia 25193 has filed a petition to modify the application of 30 CFR 75.350 (air courses and belt haulage entries) to its White Knight Mine (I.D. No. 46-08055) located in Boone County, West Virginia. The petitioner proposes to use air coursed through the conveyor belt entry at a velocity of at least 50 feet per minute to ventilate active working places using the specific terms and conditions listed in this petition for modification. The petitioner proposes to install a low-level carbon monoxide monitoring system as an early warning fire detection system in all belt entries used to course intake air to a working place. The petitioner asserts that the proposed alternative method would provide at least the same measure of protection as the mandatory standard.

6. FKZ Coal, Inc.

[Docket No. M-2000-017-C]

FKZ Coal, Inc., P.O. Box 62, Locust Gap, Pennsylvania 17840 has filed a petition to modify the application of 30 CFR 75.1202 and 75.1202-1(a) (temporary notations, revisions, and supplements) to its No. 1 Slope Mine (I.D. No. 36-08637) located in Northumberland County, Pennsylvania. The petitioner proposes to conduct mine surveys and revise and supplement mine maps annually instead of every 6 months as required, and to update maps daily by hand notations. The petitioner also proposes to conduct surveys prior to commencing retreat mining and whenever a drilling program under 30 CFR 75.388 or plan for mining into inaccessible area under 30 CFR 75.389 is required. The petitioner asserts that low production and slow rate of advance in anthracite mining make surveying on 6-month intervals impractical. The petitioner asserts that the proposed alternative method would provide at least the same measure of protection as the mandatory standard.

7. FKZ Coal, Inc.

[Docket No. M-2000-018-C]

FKZ Coal, Inc., P.O. Box 62, Locust Gap, Pennsylvania 17840 has filed a petition to modify the application of 30 CFR 75.1200(d) and (i) (mine map) to its No. 1 Slope Mine (I.D. No. 36-08637) located in Northumberland County, Pennsylvania. The petitioner proposes to use cross-sections instead of contour lines through the intake slope, at locations of rock tunnel connections between veins, and at 1,000 foot intervals of advance from the intake slope; and to limit the required mapping of the mine workings above and below to those present within 100 feet of the veins being mined except when veins are interconnected to other veins beyond the 100-foot limit through rock tunnels using the specific terms and conditions specified in the petition for modification. The petitioner asserts that due to the steep pitch encountered in mining anthracite coal veins, contours provide no useful information and their presence would make portions of the mine illegible. The petitioner further asserts that use of cross-sections in lieu of contour lines has been practiced since the late 1800's thereby providing critical information relative to the spacing between veins and proximity to other mine workings which fluctuate considerably. The petitioner asserts that the proposed alternative method would provide at least the same measure of protection as the mandatory standard.

8. Basic Mining Corp.

[Docket No. M-2000-019-C]

Basic Mining Corp., P.O. Box 1197, Vansant, Virginia 24656 has filed a petition to modify the application of 30 CFR 75.1710-1(a) (canopies or cabs; self-propelled diesel-powered and electric face equipment; installation requirements) to its Mine No. 2 (I.D. No. 44-05032) located in Dickenson County, Virginia. The petitioner proposes to operate its Joy 21 SC Shuttle Cars without canopies in mining heights less than 50 inches. The petitioner asserts that the Lower Banner coal seam of the mine is 34 inches thick; the mining height ranges from 44-50 inches with the majority of the area being 47 inches; the shuttle car frames are 30 inches high and the installed canopy height is 38 inches creating a visibility problem for the operator by limiting field of vision to 4 inches, compromises the safety of the miners, and create pinch points for the shuttle car operators during the mining of cross-cut entries. The petitioner also asserts that the Lower Banner seam has a fire clay bottom with water in the mine floor that tends to break up and out, and that shuttle cars traveling over this uneven, undulating surface causes canopies to contact the mine roof and dislodge or shear off the permanent roof support resulting in a diminution of safety to the equipment operator.

Request for Comments

Persons interested in these petitions are encouraged to submit comments via e-mail to “comments@msha.gov,” or on a computer disk along with an original hard copy to the Office of Standards, Regulations, and Variances, Mine Safety and Health Administration, 4015 Wilson Boulevard, Room 627, Arlington, Virginia 22203. All comments must be postmarked or received in that office on or before May 1, 2000. Copies of these petitions are available for inspection at that address.

Dated: March 20, 2000.
Carol J. Jones,
Acting Director, Office of Standards, Regulations, and Variances.

[FR Doc. 00-7908 Filed 3-29-00; 8:45 am]

BILLING CODE 4510-43-U